DEPARTMENT OF ENERGY

Federal Energy Regulatory Commission

[Docket No. CP11-490-000]

Columbia Gas Transmission, LLC; Notice of Intent To Prepare an Environmental Assessment for the Proposed Vepco—Warren County Project and Request for Comments on Environmental Issues

The staff of the Federal Energy Regulatory Commission (FERC or Commission) will prepare an environmental assessment (EA) that will discuss the environmental impacts of the Vepco—Warren County Project involving construction and operation of facilities by Columbia Gas Transmission, LLC (Columbia) in Charleston, West Virginia. This EA will be used by the Commission in its decision-making process to determine whether the project is in the public convenience and necessity.

This notice announces the opening of the scoping process we will use to gather input from the public and interested agencies on the project. Your input will help the Commission staff determine which issues need to be evaluated in the EA. Please note that the scoping period will close on August 25, 2011.

This notice is being sent to affected landowners; Federal, state, and local government representatives and agencies; elected officials; environmental and public interest groups; Native American Tribes; other interested parties; and local libraries and newspapers. State and local government representatives are asked to notify their constituents of this planned project and encourage them to comment on their areas of concern.

If you are a landowner receiving this notice, you may be contacted by a Columbia representative about survey permission and/or the acquisition of an easement to construct, operate, and maintain the proposed facilities. The company would seek to negotiate a mutually acceptable agreement. However, if the project is approved by the Commission, that approval conveys with it the right of eminent domain. Therefore, if easement negotiations fail to produce an agreement, the natural gas company could initiate condemnation proceedings in accordance with state law.

A fact sheet prepared by the FERC entitled “An Interstate Natural Gas Facility On My Land? What Do I Need To Know?” is available for viewing on the FERC internet Web site (http://www.ferc.gov). This fact sheet addresses a number of typically asked questions, including the use of eminent domain and how to participate in the Commission's proceedings.

Summary of the Proposed Project

Columbia proposes in response to a request from Virginia Electric and Power Company (VEPCO), to construct approximately 2.47 miles of 24-inch-diameter natural gas transmission pipeline and an associated meter and regulation (M&R) station in Warren County, Virginia. In addition, the project involves the installation of minor station piping and appurtenance modifications at existing compressor stations in northern Virginia and eastern West Virginia, and abandonment and replacement of an existing pipeline interconnect near Rockville, Maryland. The project would increase the capacity to 246,000 Dth/day during the winter and utilize 224,000 Dth/day of reserved capacity during the summer to meet the fuel requirements of VEPCO's proposed power station. The general location of the project facilities is shown in Appendix 1.

If approved, Columbia proposes to commence construction of the proposed facilities in April 2012.

Land Requirements for Construction

Construction of the pipeline would temporarily impact about 32.4 acres. Permanent land requirements for operation of the proposed pipeline would impact approximately 19.7 acres and 12.7 acres would be reverted to pre-construction use. Approximately 0.6 acres of land would be utilized at the end point for permanent above-ground valve assemblies and pig receivers. Columbia would use a 75-foot-wide temporary right-of-way during construction and a 50-foot-wide permanent right-of-way for maintenance and operation centered over the centerline of the new pipeline.

In addition to the pipeline replacement, Columbia is proposing construction of a pig launcher/receiver at existing Ninevah M&R Station in Warren County, Virginia. A new M&R station would be built at milepost 2.47 of the proposed pipeline within the VEPCO—Warren County Power Station lot. At the Rockville Measuring Station, Columbia proposes to construct an interconnect between its existing 26-inch-diameter Line MB pipeline and Transcontinental Pipeline Corporations' system. Construction and operation of the proposed modifications at the existing Ninevah M&R Station, Loudoun and Lost River Compressor Stations, and Rockville Measuring Station would take place within the existing property boundaries of those facilities.

Columbia is also proposing to utilize four existing private access roads and two new roads to gain access to the construction areas along the pipeline route. Columbia proposes one temporary pipeyard/contractor yard for the Project.

The EA Process

The National Environmental Policy Act (NEPA) requires that the Commission take into account the environmental impacts that could result from an action whenever it considers the issuance of a Certificate of Public Convenience and Necessity. NEPA also requires us ¹ to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

¹ “We”, “us”, and “our” refer to the environmental staff of the Office of Energy Projects (OEP).

In the EA we will discuss impacts that could occur as a result of the construction and operation of the proposed project under these general headings:

• Geology and Soils;

• Land Use;

• Water Resources, Fisheries, and Wetlands;

• Cultural Resources;

• Vegetation and Wildlife;

• Air Quality and Noise;

• Endangered and Threatened Species;

• Public Safety.

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission. To ensure your comments are considered, please carefully follow the instructions in the public participation section below.

With this NOI, we are asking Federal, state, and local agencies with jurisdiction and/or special expertise with respect to environmental issues to formally cooperate with us in the preparation of the EA. These agencies may choose to participate once they have evaluated the proposal relative to their responsibilities. Additional agencies that would like to request cooperating agency status should follow the instructions for filing comments provided under the Public Participation section of this NOI.

Consultations Under Section 106 of the National Historic Preservation Act

In accordance with the Advisory Council on Historic Preservation's implementing regulations for section 106 of the National Historic Preservation Act, we are using this notice to initiate consultation with applicable State Historic Preservation Office(s), and to solicit their views and those of other government agencies, interested Indian tribes, and the public on the project's potential effects on historic properties.² We will define the project-specific Area of Potential Effects (APE) in consultation with the SHPO(s) as the project is further developed. On natural gas facility projects, the APE at a minimum encompasses all areas subject to ground disturbance (examples include construction right-of-way, contractor/pipe storage yards, compressor stations, and access roads). Our EA for this project will document our findings on the impacts on historic properties and summarize the status of consultations under section 106.

² The Advisory Council on Historic Preservation's regulations are at Title 36, Code of Federal Regulations, Part 800. Historic properties are defined in those regulations as any prehistoric or historic district, site, building, structure, or object included in or eligible for inclusion in the National Register for Historic Places.

Public Participation

You can make a difference by providing us with your specific comments or concerns about the Vepco—Warren County Project. Your comments should focus on the potential environmental effects, reasonable alternatives, and measures to avoid or lessen environmental impacts. The more specific your comments, the more useful they will be. To ensure that your comments are timely and properly recorded, please send in your comments so that they will be received in Washington, DC on or before August 25, 2011.

For your convenience, there are three methods in which you can use to submit your comments to the Commission. In all instances please reference the project docket number (CP11-490-000) with your submission. The Commission encourages electronic filing of comments and has dedicated eFiling expert staff available to assist you at 202-502-8258 or efiling@ferc.gov.

(1) You may file your comments electronically by using the eComment feature, which is located on the Commission's Web site at http://www.ferc.gov under the link to Documents and Filings. An eComment is an easy method for interested persons to submit brief, text-only comments on a project;

(2) You may file your comments electronically by using the eFiling feature, which is located on the Commission's Web site at http://www.ferc.gov under the link to Documents and Filings. With eFiling, you can provide comments in a variety of formats by attaching them as a file with your submission. New eFiling users must first create an account by clicking on “eRegister.” You will be asked to select the type of filing you are making. A comment on a particular project is considered a “Comment on a Filing;” or

(3) You may file a paper copy of your comments at the following address:

Kimberly D. Bose, Secretary, Federal Energy Regulatory Commission, 888 First Street, NE., Room 1A, Washington, DC 20426.

Label one copy of the comments for the attention of Gas Branch 3, PJ11.3.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

If you do not want to send comments at this time but still want to remain on our mailing list, please return the Information Request (Appendix 2). If you do not return the Information Request, you will be taken off the mailing list.

Becoming an Intervenor

In addition to involvement in the EA scoping process, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site.

Additional Information

Additional information about the project is available from the Commission's Office of External Affairs, at 1-866-208-FERC or on the FERC Internet Web site (http://www.ferc.gov) using the eLibrary link. Click on the eLibrary link, click on “General Search” and enter the docket number excluding the last three digits in the Docket Number field (CP11-490). Be sure you have selected an appropriate date range. For assistance, please contact FERC Online Support at FercOnlineSupport@ferc.gov or toll free at 1-866-208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Dated: July 26, 2011.
Nathaniel J. Davis, Sr.,
Deputy Secretary.

[FR Doc. 2011-19471 Filed 8-1-11; 8:45 am]

BILLING CODE 6717-01-P